DEPARTMENT OF JUSTICE

Notice of Lodging of Proposed Consent Decree Under CERCLA

On December 15, 2014, the Department of Justice lodged a proposed Consent Decree with the United States District Court for the Eastern District of Michigan, in the lawsuit entitled United States v. Riverview Trenton Railroad Company, Civ. Action No. 2:14-cv-14707-PDB-MJH.

Riverview Trenton Railroad Company (“RTRR”) owns property that was formerly part of the McLouth Steel facility located near Detroit, Michigan (“RTRR Site”). The proposed settlement resolves the United States' claims against RTRR under Section 107 of the Comprehensive Environmental Response, Compensation, and Liability Act, 42 U.S.C. 9607, for recovery of response costs incurred at the RTRR Site. Under the proposed Consent Decree, RTRR will pay $675,000.00 to resolve the Government's claims.

The publication of this notice opens a period for public comment on the Consent Decree. Comments should be addressed to the Assistant Attorney General, Environment and Natural Resources Division, and should refer to United States v. Riverview Trenton Railroad Company, Civ. Action No. 2:14-cv-14707-PDB-MJH, D.J. Ref. No. 90-11-3-10709. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $5.75 (25 cents per page reproduction cost) payable to the United States Treasury.

Randall M. Stone,
Acting Assistant Section Chief, Environmental Enforcement Section, Environment and Natural Resources Division.

[FR Doc. 2014-30331 Filed 12-24-14; 8:45 am]

BILLING CODE 4410-15-P